DEPARTMENT OF THE INTERIOR

Fish and Wildlife Service

Notice of Availability of a Proposed Amendment to Environmental Defense, Inc.'s Safe Harbor Agreement

AGENCY: Fish and Wildlife Service, Interior.

ACTION: Notice of availability and 30-day public comment period.

SUMMARY: Environmental Defense, Inc. (ED) has submitted to the U.S. Fish and Wildlife Service (Service) a request to amend their Safe Harbor Agreement (SHA) and associated Endangered Species Act (Act) Section 10(a)(1)(A) Safe Harbor Enhancement of Survival permit (Permit) for habitat restoration activities on private lands for the endangered Black-capped vireo (Vireo atricapilla) (BCVI) and Golden-cheeked warbler (Dendroica chrysoparia) (GCWA) in the Hill Country of Texas to include twelve additional counties, along with amending language in Attachment 2 of their SHA. The amendment would allow the Safe Harbor program to expand onto additional private lands in Texas, thus furthering the conservation of BCVIs and GCWAs.

DATES: To ensure consideration, written comments must be received on or before September 28, 2005.

ADDRESSES: Persons wishing to review the application may obtain copies by calling or faxing a request to the Service at the U.S. Fish and Wildlife Service Austin Office, 10711 Burnet Road, Suite 200, Austin, Texas 78758, (512/490-0057 voice, 512/490-0974 fax). The amendment request will also be available for public inspection, by appointment, during normal business hours (8 a.m. to 4:30 p.m.) at the Fish and Wildlife Service Austin Office. During the 30-day public comment period, written comments or data should be submitted to the Field Supervisor at the above address. Please refer to the amendment to ED's SHA in the Texas Hill Country (TE-024875-1). All comments received, including names and addresses, will become a part of the official administrative record and may be made available to the public.

FOR FURTHER INFORMATION CONTACT: Christina Williams at the Fish and Wildlife Service Austin Office, 10711 Burnet Road, Suite 200, Austin, Texas 78758, (512/490-0057 voice, 512/490-0974 fax).

SUPPLEMENTARY INFORMATION: In addition to the 25 counties covered under their current permit, habitat enhancement activities could now occur in any or all of the following additional counties: Bexar, Callahan, Coke, Concho, Hamilton, Hood, Kinney, McLennan, Palo Pinto, Runnels, Taylor, and Tom Green. Habitat enhancement activities could include, but are not limited to, prescribed burning, selective Ashe juniper thinning, rotational grazing, cowbird trapping, and hardwood regeneration.

Currently, ED is prevented by the terms and conditions of their original SHA from enrolling non-habitat within 300 feet of GCWA habitat, which would create and maintain a strip of non-habitat between two patches of habitat. Therefore, ED is requesting that language in Attachment 2 of the SHA be amended to allow for the creation of habitat for BCVIs or GCWAs within 300 feet of GCWA habitat, so long as no alteration of existing habitat occurs.

BCVI and GCWA were listed as endangered in November 1987 and May 1990, respectively. The BCVI and GCWA are migratory songbirds that occupy breeding habitat in Texas from about March 1-August 31. The BCVI requires an early successional stage, patchy island habitat of wooded areas with shrubs up to about 6 feet tall surrounded by grasslands. GCWA habitat is mixed closed canopy woodland of mature Ashe juniper and oaks.

Approximately 98 percent of the land in Texas is privately owned, with a substantial majority of existing and restorable BCVI and GCWA habitat falling into this category. Therefore, the participation of private landowners in the recovery of these two species is highly important.

Landowners having currently unoccupied or unsuitable, but restorable habitat and thus a zero baseline condition for the Safe Harbor, would be eligible for Certificates of Inclusion. Exceptions to the zero baseline may also be included for certificates under very limited circumstances with concurrence from the Service. Upon completion and maintenance of the habitat improvements for at least four breeding seasons, the landowners would be permitted to conduct any otherwise lawful activity on their property, including activities that result in the partial or total elimination of the restored habitat and the incidental taking of either of these species as a result of such habitat elimination (return to baseline).

The authority for this action is the Endangered Species Act of 1973, as amended, through its permitting provisions (50 CFR part 17). The amendment request is available for public review, and subject to the requirements of the Privacy Act and Freedom of Information Act, by any party who submits a written request for a copy of such document within the comment period to the address specified below (43 CFR part 2).

Joy E. Nicholopoulos,
Acting Regional Director, Region 2, Albuquerque, New Mexico.

[FR Doc. 05-17063 Filed 8-26-05; 8:45 am]

BILLING CODE 4510-55-P